DEPARTMENT OF THE INTERIOR

Bureau of Ocean Energy Management

[Docket No. BOEM-2018-0054]

Outer Continental Shelf (OCS), Alaska Region (AK), Beaufort Sea Program Area, Proposed 2019 Beaufort Sea Oil and Gas Lease Sale

AGENCY: Bureau of Ocean Energy Management, Interior.

ACTION: Notice of intent to prepare an environmental impact statement, announce the area identified for leasing, extension of comment period and prescheduling of public scoping meetings.

SUMMARY: On November 16, 2018, consistent with the regulations implementing the National Environmental Policy Act (NEPA), the Bureau of Ocean Energy Management (BOEM) announced its intent, in the Federal Register (83 FR 57749), to prepare an Environmental Impact Statement (EIS) for the proposed 2019 Beaufort Sea Lease Sale in the Beaufort Sea Planning Area. Because of earthquakes in Alaska, BOEM has rescheduled some of its scoping meetings and extended the comment period.

DATES:

Comments: All interested parties, including Federal, State, Tribal, and local governments, and the general public, may submit written comments by January 4, 2019, on the scope of the 2019 Beaufort Sea Lease Sale EIS, significant issues, reasonable alternatives, potential mitigation measures, and the foreseeable types of oil and gas activities in the proposed lease sale area.

Comments may be made on-line. Navigate to http://www.regulations.gov and search for Docket BOEM-2018-0054, or “Oil and Gas Lease Sales: Alaska Outer Continental Shelf; 2019 Beaufort Sea Lease Sale”, and click on the “Comment Now!” button. Enter your information and comment, and then click “Submit.” Before including your address, phone number, email address, or other personal identifying information in your comment, you should be aware that your entire comment—including your personal identifying information—may be made publicly available at any time. While you can ask us in your comment to withhold your personal identifying information from public review, we cannot guarantee that we will be able to do so.

ADDRESSES:

Scoping Meetings: Pursuant to the regulations implementing the procedural provisions of NEPA, BOEM will hold public scoping meetings. The purpose of these meetings is to solicit comments on the scope of the 2019 Beaufort Sea Lease Sale EIS. The meeting in Anchorage, Alaska, on December 6, 2018, was held as scheduled. The remaining meetings will all start at 7:00 p.m. and conclude at 9:00 p.m., and are rescheduled as follows:

• December 17, 2018, Inupiat Heritage Center, Utqiaġvik, Alaska;

• December 18, 2018, Kisik Community Center, Nuiqsut, Alaska; and

• December 19, 2018, Community Center, Kaktovik, Alaska.

FOR FURTHER INFORMATION CONTACT: For information on the 2019 Beaufort Sea Lease Sale EIS or the submission of comments, please contact Sharon Randall, Chief of Environmental Analysis Section, BOEM, Alaska OCS Region, 3801 Centerpoint Drive, Suite 500, Anchorage, AK 99503, (907) 334-5200.

Authority: This notice of intent is published pursuant to the regulations at 40 CFR 1501.7 implementing the provisions of NEPA.

Dated: December 11, 2018.
Walter D. Cruickshank,
Acting Director, Bureau of Ocean Energy Management.

[FR Doc. 2018-27176 Filed 12-13-18; 8:45 am]

BILLING CODE 4310-MR-P